DEPARTMENT OF LABOR

Employment and Training Administration

[NAFTA-5085]

Besser Lithibar, Holland, MI; Notice of Termination of Investigation

Pursuant to Title V of the North American Free Trade Agreement Implementation Act (Pub. L. 103-182) concerning transitional adjustment assistance, hereinafter called NAFTA-TAA and in accordance with section 250(a), Subchapter D, Chapter 2, Title II, of the Trade Act of 1974, as amended (19 U.S.C. 2331), an investigation was initiated on July 13, 2001, in response to a petition filed on behalf of workers at Besser Lithibar, Holland, Michigan. Workers produce automated material handling equipment.

A negative determination on an identical petition regarding the same worker group was issued on August 31, 2001. Consequently, further investigation in this case would serve no purpose, and the investigation has been terminated.

Signed in Washington, DC this 12th day of December, 2001.
Linda G. Poole,
Certifying Officer, Division of Trade Adjustment Assistance.

[FR Doc. 01-31626 Filed 12-21-01; 8:45 am]

BILLING CODE 4510-30-M